DEPARTMENT OF ENERGY

Federal Energy Regulatory Commission

[Project No. 14298-000, Project No. 14299-000, Project No. 14301-000]

SV Hydro, LLC, Coffeeville, LLC, FFP Project 99, LLC; Notice Announcing Preliminary Permit Drawing

.

The Commission has received three preliminary permit applications deemed filed on October 3, 2011, at 8:30 a.m.,¹ for proposed projects to be located at the U.S. Army Corps of Engineers' Coffeeville Lock and Dam on the Tombigbee River, in Choctaw and Clarke counties, Alabama. The applications were filed by SV Hydro, LLC for Project No. 14298-000, Coffeeville, LLC for Project No. 14299-000, and FFP Project 99, LLC for Project No. 14301-000.²

¹ Under the Commission's Rules of Practice and Procedure, any document received after regular business hours is considered filed at 8:30 a.m. on the next regular business day. 18 CFR 385.2001(a)(2) (2011).

² Lock+ Hydro Friends Fund XIV, also filed a permit application to study the same site for Project No. 14302, which is deemed filed October 3, 2011, at 3:32 p.m.

On February 28, 2012, at 9 a.m. (eastern time), the Secretary of the Commission, or her designee, will conduct a random drawing to determine the filing priority of the applicants identified in this notice. The Commission will select among competing permit applications as provided in section 4.37 of its regulations.³ The priority established by this drawing will be used to determine which applicant, among those with identical filing times, will be considered to have the first-filed application.

³ 18 CFR 4.37 (2011).

The drawing is open to the public and will be held in room 2C, the Commission Meeting Room, located at 888 First St. NE., Washington, DC 20426. A subsequent notice will be issued by the Secretary announcing the results of the drawing.

Dated: February 16, 2012.
Nathaniel J. Davis, Sr.,
Deputy Secretary.

[FR Doc. 2012-4182 Filed 2-22-12; 8:45 am]

BILLING CODE 6717-01-P